ENVIRONMENTAL PROTECTION AGENCY

[EPA-HQ-OPP-2020-0273; FRL-10010-43]

Agency Information Collection Activities; Proposed Consolidation of Several Existing Collections (EPA ICR No. 2624.01); Comment Request

AGENCY: Environmental Protection Agency (EPA).

ACTION: Notice.

SUMMARY: In compliance with the Paperwork Reduction Act (PRA), this document announces that EPA is planning to submit a request to renew and consolidate several existing approved Information Collection Requests (ICRs) to the Office of Management and Budget (OMB). Before submitting the consolidated ICR to OMB for review and approval, EPA is soliciting comments on specific aspects of the proposed information collection that is summarized in this document. The consolidated ICR is entitled: “Consolidated Pesticide Registration Activities” and identified by EPA ICR No. 2624.01 and OMB Control No. 2070-NEW. The ICR and accompanying material are available in the docket for public review and comment.

DATES: Comments must be received on or before October 13, 2020.

ADDRESSES: Submit your comments, identified by docket identification (ID) number EPA-HQ-OPP-2020-0273, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: Carolyn Siu, Field and External Affairs Division, 7650P, Office of Pesticide Programs, Environmental Protection Agency, 1200 Pennsylvania Ave. NW, Washington, DC 20460-0001; telephone number: (703) 347-0159; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR in the subject line on the first page of your response. You may also provide the ICR title and related EPA and OMB numbers.

III. What do I need to know about PRA?

An Agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. What ICR does this request apply to?

Title: Consolidated Pesticide Registration Activities.

ICR number: EPA ICR No. 2624.01.

OMB control number: OMB Control No. 2070-NEW.

ICR status: This ICR reflects the consolidation of the following currently approved ICRs:

• “Tolerance Petitions for Pesticides on Food/Feed Crops and New Inert Ingredients,” EPA ICR No. 0597.13, OMB Control No. 2070-0024, scheduled to expire April 30, 2022;

• “Submission of Unreasonable Adverse Effects Information Under FIFRA 6(a)(2),” EPA ICR No. 1204.14, OMB Control No. 2070-0039, scheduled to expire on February 28, 2021;

• “Experimental Use Permits (EUPs) for Pesticides,” EPA ICR No. 0276.17, OMB Control No. 2070-0040, scheduled to expire on February 28, 2021;

• “Notice of Supplemental Distribution of a Registered Pesticide Product,” EPA ICR No. 0278.13, OMB Control No. 2070-0044, scheduled to expire on October 31, 2021;

• “Compliance Requirement for Child Resistant Packaging,” EPA ICR No. 0616.13, OMB Control No. 2070-0052, scheduled to expire on November 30, 2021;

• “Application for New and Amended Pesticide Registration,” EPA ICR No. 0277.21, OMB Control No. 2070-0060, scheduled to expire on September 30, 2020;

• “Plant-Incorporated Protectants; CBI Substantiation and Adverse Effects Reporting,” EPA ICR No. 1693.10, OMB Control No. 2070-0142, scheduled to expire on February 28, 2021;

• “Pesticide Program Public Sector Collections (FIFRA § 18/24(c)),” EPA ICR No. 2311.04, OMB Control No. 2070-0182, scheduled to expire on February 28, 2021.

Abstract: This is a new information collection request (ICR) that consolidates the collection activities covered by eight ICRs that are currently approved by the Office of Management and Budget (OMB) under the separate OMB control numbers identified in the previous paragraph. This consolidation is due to the shared collection method or anticipated collection method of the information via the Pesticide Submission Portal in EPA's Central Data Exchange (CDX) and fulfills OMB Terms of Clearance on several of the ICRs. This consolidation is expected to clarify the capabilities of the Pesticide Submission Portal for respondents as well as streamline EPA's ICR tracking, renewal, and development process.

The eight consolidated ICRs enable the EPA to acquire the necessary data to support the statutorily mandated information collection activities pertaining to the pesticide registration process under the Federal Insecticide, Fungicide and Rodenticide Act (FIFRA) and the Federal Food, Drug, and Cosmetic Act (FFDCA) as amended by the Food Quality Protection Act (FQPA), specifically:

• Pesticide registration.

• Pesticide use.

• Pesticide sale and distribution.

• Pesticide permitting activities.

• Determinations regarding whether a product must be regulated under FIFRA.

• Pesticide tolerances.

The collection activities vary and are dependent on the request from the Agency, respondent or both to fulfill the associated requirement or voluntary submission. Due to the diverse nature of the collections and affected industries, the term “respondent” will be used to refer to those engaging in any or all of the collections described in this ICR, unless a specific term offers more clarity.

Burden statement: The annual public reporting and recordkeeping burden for this collection of information is estimated to average between 0.32-1,739 hours per response. The consolidated ICR, a copy of which is available in the docket, provides a detailed explanation of this estimate, which is only briefly summarized here:

Respondents/Affected entities: Entities potentially affected by this ICR include pesticide and other agricultural chemical manufacturing, research and development in the physical, engineering, and life sciences, biological products (except diagnostic) manufacturing, colleges, universities, and professional schools, farm supplies wholesalers, flower, nursery stock, and florists' supplies wholesalers, state government, other chemical and allied products merchant wholesalers, exterminating and pest control service, management, scientific, and technical consulting services.

Estimated total number of potential respondents: 136,168.

Frequency of response: On occasion.

Estimated total annual burden hours: 2,179,699.

Estimated total annual costs: $174,892,655. This includes an estimated burden cost of $174,892,655 and an estimated cost of $0 for non-burden hour paperwork costs, e.g., capital investment or maintenance and operational costs.

V. Are there changes in the estimates from the last approvals?

The EPA estimates no quantifiable change in burden hours between the combined burden in this ICR and the burden estimates in the previously approved requests.

VI. What is the next step in the process for this ICR?

EPA will consider the comments received and amend the consolidated ICR as appropriate. The final ICR package will then be submitted to OMB for review and approval pursuant to 5 CFR 1320.12. EPA will issue another Federal Register document pursuant to 5 CFR 1320.5(a)(1)(iv) to announce the submission of the ICR to OMB and the opportunity for the public to submit additional comments for OMB consideration.

If you have any questions about this ICR or the approval process, please contact the person listed under FOR FURTHER INFORMATION CONTACT.

Authority: 44 U.S.C. 3501 et seq.

Dated: August 7, 2020.
Alexandra Dapolito Dunn,
Assistant Administrator, Office of Chemical Safety and Pollution Prevention.

[FR Doc. 2020-17701 Filed 8-12-20; 8:45 am]

BILLING CODE 6560-50-P